DEPARTMENT OF THE INTERIOR

Fish and Wildlife Service

[FWS-R4-ES-2010-N021; 40120-1113-IBWP-C2]

Recovery Plan for the Ivory-billed Woodpecker (Campephilus principalis)

AGENCY: Fish and Wildlife Service, Interior.

ACTION: Notice of document availability.

SUMMARY: We, the U.S. Fish and Wildlife Service, announce the availability of the Final Recovery Plan for the Ivory-billed Woodpecker (Campephilus principalis). This final recovery plan includes criteria and measures that should be taken in order to begin to effectively recover the species to the point where delisting is warranted under the Endangered Species Act of 1973, as amended (Act).

ADDRESSES: Copies of the draft recovery plan are available by request from the Lafayette Field Office of the U.S. Fish and Wildlife Service, 646 Cajundome Boulevard, Suite 400, Lafayette, LA 70506, or by download from our recovery plan Web site at http://endangered.fws.gov/recovery/index.html#plans.

FOR FURTHER INFORMATION CONTACT: Deborah Fuller, at the above address or telephone (337) 291-3100.

SUPPLEMENTARY INFORMATION: Restoring listed animals and plants to the point where they are again secure, self-sustaining components of their ecosystems is a primary goal of our threatened and endangered species program. To help guide the recovery effort, we prepare recovery plans for listed species native to the United States, pursuant to section 4(f) of the Act (16 U.S.C. 1531 et seq.), unless such a plan would not promote the conservation of a particular species. Recovery plans describe actions that may be necessary for conservation of the species, establish criteria for reclassification from endangered to threatened status or removal from the list of threatened and endangered species, and estimate the time and cost for implementing the needed recovery measures.

Prior to European settlement, the ivory-billed woodpecker appeared to be widely distributed throughout the southeastern United States. Since then the species has become extremely rare and was, until recently, commonly accepted as extirpated from its known range in the United States. The ivory-billed woodpecker's disappearance is closely linked with logging and clearing of the contiguous forest habitats which once covered much of the southeastern United States. Additionally, as habitats became fragmented and access to the birds increased, collecting and other direct mortality may have had a significant impact.

Despite this species' having been listed since 1967, no recovery plan was prepared, in large part due to the lack of any clear, undisputed evidence (since 1944) of the species' continued existence. However, evidence supporting the presence of at least one bird in the Bayou de View area of Cache River National Wildlife Refuge in 2004, as well as additional supporting information, generated the need to complete a recovery plan. Given the limited information on the current number of individuals throughout the species' range and the limited knowledge on biology, habitat requirements, and genetic information, we recognize the need to generate scientific information to better address the threats and limiting factors to this species and to develop additional specific recovery criteria.

The recovery strategy initially focuses on learning more about the species' status and ecology, including documenting known locations and characterizing these habitats. Population goals are not identified, but are acknowledged as key to recovery. Initial efforts include development of models and additional research that will generate these spatially explicit population goals. Neither an appropriate time to recovery nor cost estimate are meaningful at this time, due to the difficulty in reliably locating individual birds or their roosting or nesting cavities.

Recovery Objectives

This recovery plan identifies many interim actions needed to achieve long-term viability for the ivory-billed woodpecker and to accomplish these goals. Recovery of the ivory-billed woodpecker focuses on the following objectives:

1. Identify and delineate any existing populations.

2. Identify and reduce risks to any existing population.

3. Protect and enhance suitable habitat once populations are identified.

4. Reduce or eliminate threats sufficient to allow successful restoration of multiple populations when those populations are identified.

The emphasis for recovery will be on the distribution of additional viable populations in the historic range of the species. Discovery, documentation, and subsequent management of additional populations must meet scientifically accepted goals for the promotion of viable populations of listed species.

At present, the limited knowledge on the population abundance, distribution, habitat requirements, and biology of the ivory-billed woodpecker prevents development of more specific recovery criteria. The following interim criteria will lead us to the development of more specific, quantifiable criteria that should be met before we consider the delisting of this species:

1. Survey potential habitats for any occurrences of the species.

2. Determine current habitat use and needs of any existing populations.

3. Conserve and enhance habitat on public land where ivory-billed woodpeckers are located. Acquire additional acreage, if needed, from willing sellers and list in the public habitat inventory.

4. Conserve and enhance habitat on private lands through the use of voluntary agreements (e.g., conservation easements, habitat conservation plans) and public outreach.

5. Analyze viability of any existing populations (numbers, breeding success, population genetics, and ecology).

6. Determine the number and geographic distribution of subpopulations needed to create conditions favorable to a self-sustaining metapopulation and to evaluate habitat suitable for species re-introduction.

The draft recovery plan was completed and released for public comment on August 22, 2007 (72 FR 47064). We solicited review and comment from local, State, and Federal agencies and the public on the draft recovery plan. We considered all comments we received during the comment period, peer review comments, and additional recovery team comments prior to the decision to approve of the revised recovery plan. Responses to these comments are found in Appendix K of the recovery plan. We welcome continuing public comment on this recovery plan, and we will consider all substantive comments on an ongoing basis to inform the implementation of recovery activities and future updates to the recovery plan.

Authority: The authority for this action is section 4(f) of the Endangered Species Act, 16 U.S.C. 1533(f).

Dated: January 15, 2010.
Jeffrey M. Fleming,
Acting Regional Director, Southeast Region.

Editorial Note: This document was received in the Office of the Federal Register on July 14, 2010.

[FR Doc. 2010-17486 Filed 7-16-10; 8:45 am]

BILLING CODE 4310-55-P